DEPARTMENT OF ENERGY

Federal Energy Regulatory Commission

Combined Notice of Filings #1

Take notice that the Commission received the following exempt wholesale generator filings:

Docket Numbers: EG26-150-000.

Applicants: Rocky Forge Wind, LLC.

Description: Rocky Forge Wind, LLC submits Notice of Self-Certification of Exempt Wholesale Generator Status.

Filed Date: 2/12/26.

Accession Number: 20260212-5023.

Comment Date: 5 p.m. ET 3/5/26.

Take notice that the Commission received the following electric rate filings:

Docket Numbers: ER10-1852-126; ER10-2641-055; ER19-774-017.

Applicants: Stanton Clean Energy, LLC, Oleander Power Project, Limited Partnership, Florida Power & Light Company.

Description: Notice of Non-Material Change in Status of Florida Power & Light Company, et al.

Filed Date: 2/3/26.

Accession Number: 20260203-5174.

Comment Date: 5 p.m. ET 2/24/26.

Docket Numbers: ER12-979-017; ER12-2542-009; ER14-2858-011; ER15-2615-007; ER16-2577-007.

Applicants: Lindahl Wind Project, LLC, Goodwell Wind Project, LLC, Origin Wind Energy, LLC, Prairie Rose Wind, LLC, Rocky Ridge Wind Project, LLC.

Description: Notice of Non-Material Change in Status of Rocky Ridge Wind Project, LLC, et al.

Filed Date: 1/30/26.

Accession Number: 20260130-5596.

Comment Date: 5 p.m. ET 2/20/26.

Docket Numbers: ER14-2709-033; ER15-30-033; ER18-2314-022; ER25-1440-004; ER20-2603-018; ER20-780-018; ER20-2597-018; ER25-2358-002; ER24-2802-003; ER13-2474-030; ER20-2237-018; ER26-96-002; ER19-2495-020; ER25-554-006; ER25-2646-002; ER26-97-002; ER18-2032-024; ER25-1315-004; ER20-637-018; ER19-2513-020; ER19-2513-021.

Applicants: Wilton Wind Energy II, LLC, Wilton Wind Energy I, LLC, Willow Creek Wind Project, LLC, Wildcat Ranch Wind Project, LLC, Wildcat Ranch Wind Energy, LLC, Wildcat Ranch Energy Storage, LLC, Wild Plains Wind Project, LLC, Wessington Springs Wind, LLC, Webb Road Energy Storage, LLC, Weatherford Wind, LLC, Steele Flats Wind Project, LLC, Steele Flats Wind I, LLC, Steele Flats Energy Storage, LLC, Soldier Creek Wind, LLC, Sooner Wind, LLC, Skeleton Creek Wind, LLC, Skeleton Creek Energy Center, LLC, Sholes Wind Energy, LLC, Seiling Wind Interconnection Services, LLC, Seiling Wind II, LLC.

Description: Notice of Change in Status of Armadillo Flats Wind Energy, LLC, et al. Part 3 of 3.

Filed Date: 1/30/26.

Accession Number: 20260130-5599.

Comment Date: 5 p.m. ET 2/20/26.

Docket Numbers: ER17-105-014; ER22-2703-010; ER17-104-014; ER21-2330-007; ER21-2331-007; ER15-1019-014; ER17-556-012; ER10-1362-013; ER23-2469-007; ER12-2639-017; ER11-3959-015; ER21-2333-007; ER12-726-015; ER18-2158-009; ER25-2533-001; ER25-2532-001; ER21-2336-007.

Applicants: Tecolote Wind LLC, SunZia Wind South LLC, SunZia Wind North LLC, Stillwater Wind, LLC, Spring Valley Wind LLC, Red Cloud Wind LLC, Post Rock Wind Power Project, LLC, Ocotillo Express LLC, Lost Creek Wind, LLC, Hatchet Ridge Wind, LLC, Grady Wind Energy Center, LLC, Fowler Ridge IV Wind Farm LLC, Duran Mesa LLC, Clines Corners Wind Farm LLC, Broadview Energy KW, LLC, Pattern Energy Management Services LLC, Broadview Energy JN, LLC.

Description: Notice of Change in Status of Broadview Energy JN, LLC, et al.

Filed Date: 2/3/26.

Accession Number: 20260203-5172.

Comment Date: 5 p.m. ET 2/24/26.

Docket Numbers: ER20-2446-009.

Applicants: Bitter Ridge Wind Farm, LLC.

Description: Compliance filing: Info Filing Pursuant to Sched 2 of PJM OATT & Request for Confidential Treatment to be effective N/A.

Filed Date: 2/11/26.

Accession Number: 20260211-5135.

Comment Date: 5 p.m. ET 3/4/26.

Docket Numbers: ER24-2715-002; ER25-127-001.

Applicants: Wheatsborough Solar, LLC, Timbermill Wind, LLC.

Description: Notice of Change in Status of Timbermill Wind, LLC, et al.

Filed Date: 2/4/26.

Accession Number: 20260204-5180.

Comment Date: 5 p.m. ET 2/25/26.

Docket Numbers: ER24-2794-009; ER18-2182-025; ER12-895-039; ER20-1907-017; ER21-2149-016; ER21-2699-017; ER26-90-002; ER18-2066-019; ER11-4462-120; ER17-838-094; ER10-1951-097; ER16-1509-010; ER25-2356-002; ER16-2241-028; ER25-3000-001; ER20-2648-017; ER25-2357-002; ER20-792-018; ER24-2792-008; ER16-2297-029; ER26-91-002; ER25-1255-002; ER14-2710-035; ER15-58-033; ER25-2415-002; ER26-92-003; ER25-2691-001; ER25-3240-002; ER25-3012-002; ER25-3218-002; ER20-1991-018; ER24-2793-008; ER18-1981-024; ER26-94-002; ER26-95-002; ER16-1440-029; ER25-3219-002; ER25-2612-002; ER25-2611-002; ER19-1128-018; ER25-3014-002; ER16-2240-029; ER14-2708-036; ER25-1314-004.

Applicants: Seiling Wind Energy II, LLC, Seiling Wind, LLC, Rush Springs Wind Energy, LLC, Rush Springs Solar, LLC, Rush Springs Energy Storage, LLC, Rumble Solar, LLC, Rumble Energy Storage, LLC, Roy Solar, LLC, Roswell Solar, LLC, Roswell Energy Storage, LLC, Pratt Wind Energy, LLC, Pratt Wind, LLC, Ponderosa Wind II, LLC, Ponderosa Wind, LLC, Pioneer Creek Wind Project, LLC, Pierce County Energy Center, LLC, Persica Solar, LLC, Panhandle Solar, LLC, Panhandle Energy Storage, LLC, Panama Energy Center, LLC, Palo Duro Wind Interconnection Services, LLC, Palo Duro Wind Energy, LLC, Palo Duro Wind, LLC, Palo Duro Energy Storage, LLC, Osborn Wind Energy, LLC, Oliver Wind IV, LLC, Oklahoma Wind, LLC, Northern Divide Energy Storage, LLC, Northern Divide Wind, LLC, Ninnescah Wind Renewables, LLC, Ninnescah Wind Energy, LLC, Ninnescah Flats Solar, LLC, New Wave Energy Corp, NextEra Energy Services Massachusetts, LLC, NextEra Energy Marketing, LLC,NEPM II, LLC, Minco Wind IV, LLC, Minco Wind Energy IV, LLC, Minco Wind Energy III, LLC, Minco Wind Energy II, LLC, Minco Wind I, LLC, Minco Wind Interconnection Services, LLC, Minco IV & V Interconnection, LLC, Minco II Energy Storage, LLC.

Description: Notice of Change in Status of Armadillo Flats Wind Energy, LLC, et al Part 2 of 3.

Filed Date: 1/30/26.

Accession Number: 20260130-5598.

Comment Date: 5 p.m. ET 2/20/26.

Docket Numbers: ER26-85-003; ER18-2118-025; ER20-2179-017; ER25-2414-002; ER21-1990-014; ER26-8-003; ER16-2453-030; ER16-2190-029; ER16-2191-029; ER24-2791-005; ER25-1311-004; ER15-1925-031; ER15-2676-032; ER25-1312-002; ER16-1672-031; ER22-2516-010; ER26-87-002; ER25-3239-002; ER13-712-040; ER17-2152-026; ER20-1986-016; ER18-882-027; ER10-1849-039; ER21-2296-015; ER10-1852-125; ER10-1952-022; ER11-2642-032; ER22-1982-015; ER24-2794-008; ER23-2629-010; ER26-88-002; ER20-2064-018; ER12-1228-040; ER21-2225-016; ER16-2275-028; ER16-2276-028; ER25-2996-001; ER25-2998-001; ER21-2117-016; ER26-93-002; ER18-2003-024; ER26-89-002; ER25-1285-003; ER14-2707-035.

Applicants: Mammoth Plains Wind Project, LLC, Mammoth Plains Wind, LLC, Lorenzo Wind Energy, LLC, Lorenzo Wind, LLC, Lorenzo Energy Storage, LLC, Little Blue Wind Project, LLC, Kingman Wind II, LLC, Kingman Wind I, LLC, Kingman Wind Energy II, LLC, Kingman Wind Energy I, LLC, Irish Creek Wind, LLC, High Majestic Wind II, LLC, High Majestic Wind I, LLC, High Majestic Wind Energy II, LLC, High Banks Wind, LLC, Minco II Energy Storage, LLC, Great Prairie Wind, LLC,FPL Energy South Dakota Wind, LLC, Gray County Wind Energy, LLC, Florida Power & Light Company, Ensign Wind Energy, LLC, Elk City Wind, LLC, Elk City Renewables II, LLC, Day County Wind I, LLC, Cottonwood Wind Project, LLC, Cimarron Wind Energy, LLC, Cimarron Wind, LLC, Chaves Energy Storage, LLC, Chaves County Solar II, LLC, Chaves County Solar, LLC, Cedar Bluff Wind Energy, LLC, Cedar Bluff Wind, LLC, Breckinridge Wind Project, LLC, Breckinridge Wind, LLC, Breckinridge Energy Storage, LLC, Brady Wind II, LLC, Brady Wind, LLC, Brady Interconnection, LLC, Anticline Energy Storage, LLC, Blackwell Wind Energy, LLC, Beaver Creek Solar, LLC, Baldwin Wind Energy, LLC, Armadillo Flats Wind Project, LLC, Armadillo Flats Wind Energy, LLC.

Description: Notice of Change in Status of Armadillo Flats Wind Energy, LLC, et al. Part 1 of 3.

Filed Date: 1/30/26.

Accession Number: 20260130-5597.

Comment Date: 5 p.m. ET 2/20/26.

Docket Numbers: ER26-557-001.

Applicants: Portland General Electric Company.

Description: Compliance filing: Amended PGE BPA MO &O Agreement—Re-file to be effective 2/1/2026.

Filed Date: 2/12/26.

Accession Number: 20260212-5118.

Comment Date: 5 p.m. ET 3/5/26.

Docket Numbers: ER26-1342-000.

Applicants: NorthWestern Corporation.

Description: Tariff Amendment: RS 329—Notice of Termination LGIA with GB Energy to be effective 2/12/2026.

Filed Date: 2/11/26.

Accession Number: 20260211-5128.

Comment Date: 5 p.m. ET 3/4/26.

Docket Numbers: ER26-1343-000.

Applicants: Southwest Power Pool, Inc.

Description: 205(d) Rate Filing: 2198R40 Kansas Power Pool NITSA NOA to be effective 12/1/2025.

Filed Date: 2/12/26.

Accession Number: 20260212-5006.

Comment Date: 5 p.m. ET 3/5/26.

Docket Numbers: ER26-1344-000.

Applicants: PJM Interconnection, L.L.C.

Description: 205(d) Rate Filing: Original GIA No. 7839; Project Identifier No. AG1-320 to be effective 1/14/2026.

Filed Date: 2/12/26.

Accession Number: 20260212-5016.

Comment Date: 5 p.m. ET 3/5/26.

Docket Numbers: ER26-1345-000.

Applicants: American Transmission Systems, Incorporated.

Description: 205(d) Rate Filing: ATSI submits a Construction Agmt—SA No. 7281 to be effective 4/14/2026.

Filed Date: 2/12/26.

Accession Number: 20260212-5017.

Comment Date: 5 p.m. ET 3/5/26.

Docket Numbers: ER26-1346-000.

Applicants: Southwest Power Pool, Inc.

Description: 205(d) Rate Filing: 4619 NextEra Energy Resources Interconnection Holdings GIA to be effective 1/29/2026.

Filed Date: 2/12/26.

Accession Number: 20260212-5033.

Comment Date: 5 p.m. ET 3/5/26.

Docket Numbers: ER26-1347-000.

Applicants: PJM Interconnection, L.L.C.

Description: 205(d) Rate Filing: Original NUCRA, Network Upgrade No. n9680.0; Service Agreement No. 7850 to be effective 12/31/9998.

Filed Date: 2/12/26.

Accession Number: 20260212-5037.

Comment Date: 5 p.m. ET 3/5/26.

Docket Numbers: ER26-1348-000.

Applicants: FL Solar 5, LLC.

Description: 205(d) Rate Filing: FL Solar 5 LLC Amended Tariff Filing to be effective 12/31/9998.

Filed Date: 2/12/26.

Accession Number: 20260212-5052.

Comment Date: 5 p.m. ET 3/5/26.

Docket Numbers: ER26-1349-000.

Applicants: Midcontinent Independent System Operator, Inc., WPPI Energy.

Description: 205(d) Rate Filing: WPPI Energy submits tariff filing per 35.13(a)(2)(iii: 2026-02-12_WPPI Energy Revisions to Return on Equity (ROE) to be effective 2/13/2026.

Filed Date: 2/12/26.

Accession Number: 20260212-5053.

Comment Date: 5 p.m. ET 3/5/26.

Docket Numbers: ER26-1350-000.

Applicants: FL Solar 8, LLC.

Description: 205(d) Rate Filing: FL Solar 8 LLC Amended Tariff Filing to be effective 12/31/9998.

Filed Date: 2/12/26.

Accession Number: 20260212-5054.

Comment Date: 5 p.m. ET 3/5/26.

Docket Numbers: ER26-1351-000.

Applicants: Arizona Public Service Company.

Description: Tariff Amendment: Service Agreement No. 424—Notice of Cancellation to be effective 4/14/2026.

Filed Date: 2/12/26.

Accession Number: 20260212-5072.

Comment Date: 5 p.m. ET 3/5/26.

Docket Numbers: ER26-1352-000.

Applicants: Southwest Power Pool, Inc.

Description: 205(d) Rate Filing: 607R50 Evergy Kansas Central, Inc. NITSA NOA to be effective 12/1/2025.

Filed Date: 2/12/26.

Accession Number: 20260212-5076.

Comment Date: 5 p.m. ET 3/5/26.

Docket Numbers: ER26-1353-000.

Applicants: Duke Energy Florida, LLC.

Description: 205(d) Rate Filing: DEF-SECI—Revised Rate Schedule No. 226 to be effective 5/1/2026.

Filed Date: 2/12/26.

Accession Number: 20260212-5078.

Comment Date: 5 p.m. ET 3/5/26.

Docket Numbers: ER26-1354-000.

Applicants: PJM Interconnection, L.L.C.

Description: 205(d) Rate Filing: Original NUCRA, Network Upgrade No. n9521.0, SA No. 7854 to be effective 12/31/9998.

Filed Date: 2/12/26.

Accession Number: 20260212-5090.

Comment Date: 5 p.m. ET 3/5/26.

Docket Numbers: ER26-1355-000.

Applicants: Midcontinent Independent System Operator, Inc.,1803 ELECTRIC COOPERATIVE, INC.

Description: 205(d) Rate Filing: 1803 ELECTRIC COOPERATIVE, INC. submits tariff filing per 35.13(a)(2)(iii: 2026-02-12_1803 Cooperative TO Integration to be effective 6/1/2026.

Filed Date: 2/12/26.

Accession Number: 20260212-5091.

Comment Date: 5 p.m. ET 3/5/26.

Docket Numbers: ER26-1356-000.

Applicants: PJM Interconnection, L.L.C.

Description: 205(d) Rate Filing: Original GIA, SA No. 7860; Project Identifier No. AF2-068 to be effective 4/14/2026.

Filed Date: 2/12/26.

Accession Number: 20260212-5102.

Comment Date: 5 p.m. ET 3/5/26.

Docket Numbers: ER26-1357-000.

Applicants: Trans Bay Cable LLC.

Description: 205(d) Rate Filing: Trans Bay Cable TRBAA Filing to be effective 1/1/2026.

Filed Date: 2/12/26.

Accession Number: 20260212-5103.

Comment Date: 5 p.m. ET 3/5/26.

Docket Numbers: ER26-1358-000.

Applicants: PJM Interconnection, L.L.C.

Description: 205(d) Rate Filing: Amendment to GIA, SA No. 7410; Project Identifier No. AG1-189 to be effective 4/14/2026.

Filed Date: 2/12/26.

Accession Number: 20260212-5104.

Comment Date: 5 p.m. ET 3/5/26.

Docket Numbers: ER26-1359-000.

Applicants: Tucson Electric Power Company.

Description: 205(d) Rate Filing: Service Agreement No. 625 to be effective 1/13/2026.

Filed Date: 2/12/26.

Accession Number: 20260212-5124.

Comment Date: 5 p.m. ET 3/5/26.

Docket Numbers: ER26-1360-000.

Applicants: PJM Interconnection, L.L.C.

Description: 205(d) Rate Filing: Original NUCRA, Network Upgrade No. n9116.0, Service Agreement No. 7863 to be effective 12/31/9998.

Filed Date: 2/12/26.

Accession Number: 20260212-5127.

Comment Date: 5 p.m. ET 3/5/26.

Docket Numbers: ER26-1361-000.

Applicants: RBC EP 3 Inc.

Description: Initial Rate Filing: Baseline new to be effective 2/13/2026.

Filed Date: 2/12/26.

Accession Number: 20260212-5130.

Comment Date: 5 p.m. ET 3/5/26.

Docket Numbers: ER26-1362-000.

Applicants: RBC EP 2 Inc.

Description: 205(d) Rate Filing: Normal filing 2026 to be effective 2/13/2026.

Filed Date: 2/12/26.

Accession Number: 20260212-5133.

Comment Date: 5 p.m. ET 3/5/26.

Docket Numbers: ER26-1363-000.

Applicants: Base Retail, LLC.

Description: 205(d) Rate Filing: Base Retail LLC Application for Market-Based Rate Authorization to be effective 3/9/2026.

Filed Date: 2/12/26.

Accession Number: 20260212-5136.

Comment Date: 5 p.m. ET 3/5/26.

Docket Numbers: ER26-1364-000.

Applicants: PJM Interconnection, L.L.C.

Description: 205(d) Rate Filing: Original NUCRA, Network Upgrade No. n9119.0, Service Agreement No. 7864 to be effective 12/31/9998.

Filed Date: 2/12/26.

Accession Number: 20260212-5139.

Comment Date: 5 p.m. ET 3/5/26.

Take notice that the Commission received the following electric securities filings:

Docket Numbers: ES26-30-000.

Applicants: ISO New England Inc.

Description: Application Under Section 204 of the Federal Power Act for Authorization to Issue Securities of ISO New England Inc.

Filed Date: 2/10/26.

Accession Number: 20260210-5189.

Comment Date: 5 p.m. ET 3/3/26.

Take notice that the Commission received the following public utility holding company filings:

Docket Numbers: PH26-10-000.

Applicants: Apollo Global Management, Inc.

Description: Apollo Global Management, Inc. et al., submits FERC 65-B Notice of Change in Fact to Waiver Notification.

Filed Date: 2/3/26.

Accession Number: 20260203-5173.

Comment Date: 5 p.m. ET 2/24/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 12, 2026.
Carlos D. Clay,
Deputy Secretary.

[FR Doc. 2026-03172 Filed 2-17-26; 8:45 am]

BILLING CODE 6717-01-P